DEPARTMENT OF AGRICULTURE

Agricultural Research Service

Notice of Intent To Grant Exclusive Patent License

AGENCY: Agricultural Research Service, USDA.

ACTION: Notice of intent.

SUMMARY: Notice is hereby given that the U.S. Department of Agriculture, Forest Service, intends to grant Arista Biologicals, Inc. of Allentown, Pennsylvania, an exclusive license for U.S. Patent No. 5,563,040, entitled “Method and Apparatus for Immunological Diagnosis of Fungal Decay in Wood”. Notice of availability for this invention for licensing was published in the Federal Register on June 21, 1994.

DATES: Comments must be received within 30 calendar days of the date of publication of this notice in the Federal Register.

ADDRESSES: Send comments to: Patent Advisor, USDA Forest Service, One Gifford Pinchot Drive, Madison, Wisconsin 53705-2398.

FOR FURTHER INFORMATION CONTACT: Janet I. Stockhausen of the USDA Forest Service at the Madison address given above; telephone: 608-231-9502; fax: 608-231-9508; or e-mail: jstockhausen@fs.fed.us.

SUPPLEMENTARY INFORMATION: The Federal government's patent rights to this invention are assigned to the United States of America, as represented by the Secretary of Agriculture. It is in the public interest to so license this invention as Arista Biologicals, Inc. of Allentown, Pennsylvania has submitted a complete and sufficient application for a license. The prospective exclusive license will be royalty-bearing and will comply with the terms and conditions of 35 U.S.C. 209 and 37 CFR 404.7. The prospective exclusive license may be granted unless, within 30 days from the date of this published notice, the Forest Service receives written evidence and argument which establishes that the grant of the license would not be consistent with the requirements of 35 U.S.C. 209 and 37 CFR 404.7.

Michael D. Ruff,
Assistant Administrator.

[FR Doc. 03-3445 Filed 2-11-03; 8:45 am]

BILLING CODE 3410-03-P